DEPARTMENT OF TRANSPORTATION

Federal Motor Carrier Safety Administration

[Docket No. FMCSA-2014-0305]

Qualification of Drivers; Exemption Applications; Vision

AGENCY: Federal Motor Carrier Safety Administration (FMCSA), DOT.

ACTION: Notice of applications for exemptions, request for comments.

SUMMARY: FMCSA announces receipt of applications from 35 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before May 26, 2015. All comments will be investigated by FMCSA. The exemptions will be issued the day after the comment period closes.

ADDRESSES: You may submit comments bearing the Federal Docket Management System (FDMS) Docket No. FMCSA-2014-0305 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue, SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 35 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Donald A. Becker, Jr.

Mr. Becker, 39, has had amblyopia in his right eye since childhood. The visual acuity in his right eye is counting fingers, and in his left eye, 20/15. Following an examination in 2014, his ophthalmologist stated, “In your medical opinion, Patient has sufficient vision to perform the driving tasks required to operate a commercial vehicle, Yes [sic].” Mr. Becker reported that he has driven straight trucks for 13 years, accumulating 195,000 miles. He holds a chauffer's license from Michigan. His driving record for the last 3 years shows no crashes and no convictions for moving violations in a CMV.

Ronald G. Bradley

Mr. Bradley, 50, has had a macular scar in his left eye since 2005. The visual acuity in his right eye is 20/20, and in his left eye, 20/90. Following an examination in 2014, his optometrist stated, “I have been asked to submit a signed statement certifying that Mr. Bradley has sufficient vision to drive a commercial vehicle . . . While his visual condition could change, my professional opinion is that since this condition has been stable for nearly ten years, I would expect it to continue to remain the same.” Mr. Bradley reported that he has driven straight trucks for 32 years, accumulating 73,600 miles, and tractor-trailer combinations for 32 years, accumulating 320,000 miles. He holds a Class A CDL from Indiana. His driving record for the last 3 years shows no crashes and no convictions for moving violations in a CMV.

Rober J. Bruce

Mr. Bruce, 63, has had optic atrophy in his left eye since 2011. The visual acuity in his right eye is 20/25, and in his left eye, 20/70. Following an examination in 2014, his neurologist stated, “In my opinion, based on these evaluations, Mr. Bruce has sufficient vision to perform the driving tasks required to operate a commercial vehicle.” Mr. Bruce reported that he has driven straight trucks for 12 years, accumulating 120,000 miles. He holds an operator's license from Arizona. His driving record for the last 3 years shows no crashes and no convictions for moving violations in a CMV.

Mark A. Carter

Mr. Carter, 63, has had enucleation in his right eye due to a traumatic incident in 1977. The visual acuity in his right eye is no light perception, and in his left eye, 20/15. Following an examination in 2014, his optometrist stated, “In my medical opinion I feel mark has sufficient vision to operate a commercial vehicle.” Mr. Carter reported that he has driven straight trucks for 40 years, accumulating 20,000 miles, and tractor-trailer combinations for 43 years, accumulating 3.44 million miles. He holds a Class A CDL from Oklahoma. His driving record for the last 3 years shows no crashes and no convictions for moving violations in a CMV.

William T. Costie

Mr. Costie, 51, has had optic nerve hypoplasia in his left eye since birth. The visual acuity in his right eye is 20/20, and in his left eye, 20/80. Following an examination in 2014, his ophthalmologist stated, “Mr. Costie is a 51 year old gentleman who has congenital optic nerve hypoplasia in the left eye . . . It is my opinion that this gentleman has not had, nor should have in the future, any problem driving a commercial vehicle.” Mr. Costie reported that he has driven straight trucks for 10 years, accumulating 36,000 miles, and tractor-trailer combinations for 5 years, accumulating 500,000 miles. He holds a Class A CDL from New York. His driving record for the last 3 years shows one crash, to which he did contribute but was not cited, and no convictions for moving violations in a CMV.

Donald W. Donaldson

Mr. Donaldson, 55, has a corneal scar in his right eye due to a traumatic incident in 1995. The visual acuity in his right eye is no light perception, and in his left eye, 20/20. Following an examination in 2014, his optometrist stated, “Visual field is adequate to operate a commercial vehicle and condition has been stable to for years without adverse effect on driving ability. Mr. Donaldson has adequate acuity and color perception to continue operating a commercial vehicle safely.” Mr. Donaldson reported that he has driven tractor-trailer combinations for 30 years, accumulating 2.25 million miles. He holds a Class A CDL from Georgia. His driving record for the last 3 years shows no crashes and no convictions for moving violations in a CMV.

Glenn E. Dowell

Mr. Dowell, 58, has aphakia in his left eye due to a traumatic incident in 1990. The visual acuity in his right eye is 20/20, and in his left eye, 20/100. Following an examination in 2014, his optometrist stated, “I feel he has sufficient vision to perform the driving tasks required to operate a commercial vehicle.” Mr. Dowell reported that he has driven tractor-trailer combinations for 40 years, accumulating two million miles. He holds an operator's license from Indiana. His driving record for the last 3 years shows no crashes and one conviction for a moving violation in a CMV; he exceeded the speed limit by 10 mph.

James L. Duck

Mr. Duck, 70, has had amblyopia in his right eye since childhood. The visual acuity in his right eye is 20/200, and in his left eye, 20/25. Following an examination in 2014, his optometrist stated, “Mr. Duck has had poor vison in his right eye since he was a child. This condition is stable, and he has compensated and adapted to this condition his entire adult life. As such, he still has sufficient visual acuity to perform the driving tasks required to operate a commercial vehicle.” Mr. Duck reported that he has driven straight trucks for 50 years, accumulating 875,000 miles, tractor-trailer combinations for 50 years, accumulating 875,000 miles. He holds an operator's license from New Mexico. His driving record for the last 3 years shows no crashes and no convictions for moving violations in a CMV.

Terrence R. Ervin

Mr. Ervin, 59, has complete loss of vision in his left eye due to a traumatic incident in 1992. The visual acuity in his right eye is 20/20, and in his left eye, no light perception. Following an examination in 2014, his ophthalmologist stated, “He knows and understands the precautions that are necessary for driving; therefore, his vision is sufficient to perform the driving tasks required to operate a commercial vehicle.” Mr. Ervin reported that he has driven tractor-trailer combinations for 13 years, accumulating 2.6 million miles. He holds a Class A CDL from California. His driving record for the last 3 years shows no crashes and no convictions for moving violations in a CMV.

Douglas E. Hetrick

Mr. Hetrick, 57, has had amblyopia in his left eye since childhood. The visual acuity in his right eye is 20/20, and in his left eye, 20/60. Following an examination in 2014, his ophthalmologist stated, “Mr. Hetrick has a history of amblyopia in his left eye since childhood that is stable. . .With the following testing noted above, I believe that Mr. Hetrick is able to operate a commercial vehicle.” Mr. Hetrick reported that he has driven straight trucks for 40 years, accumulating 50,000 miles. He holds a Class A CDL from Colorado. His driving record for the last 3 years shows no crashes and no convictions for moving violations in a CMV.

Arthur R. Hughson

Mr. Hughson, 50, has had a deformed retina in his left eye since birth. The visual acuity in his right eye is 20/20, and in his left eye, 20/400. Following an examination in 2015, his optometrist stated, “His excellent driving record and adaptation to his visual status makes him a safe driver for a CDL.” Mr. Hughson reported that he has driven straight trucks for 5 years, accumulating 500,000 miles, and tractor-trailer combinations for 3 years, accumulating 180,000 miles. He holds a Class A CDL from Pennsylvania. His driving record for the last 3 years shows no crashes and no convictions for moving violations in a CMV.

Marc R. Johnston

Mr. Johnston, 54, has complete loss of vision in his left eye due to a traumatic incident in 1999. The visual acuity in his right eye is 20/20, and in his left eye, no light perception. Following an examination in 2014, his optometrist stated, “Mr. Johnston's right eye is very healthy. . .He is still able to drive a commercial vehicle.” Mr. Johnston reported that he has driven tractor-trailer combinations for 31 years, accumulating 525,512 miles. He holds a Class A CDL from Oregon. His driving record for the last 3 years shows no crashes and no convictions for moving violations in a CMV.

Joseph M. Jones

Mr. Jones, 70, has a retinal scar in his right eye due to a traumatic incident during childhood. The visual acuity in his right eye is counting fingers, and in his left eye, 20/20. Following an examination in 2014, his ophthalmologist stated, “Mr. Jones has visual acuity of count fingers only in the right eye. . .I feel that the patient is qualified to obtain a commercial driver's license.” Mr. Jones reported that he has driven tractor-trailer combinations for 20 years, accumulating 740,000 miles. He holds a Class A CDL from Idaho. His driving record for the last 3 years shows no crashes and no convictions for moving violations in a CMV.

Larry C. Kautz

Mr. Kautz, 49, has had amblyopia in his right eye since birth. The visual acuity in his right eye is 20/70, and in his left eye, 20/25. Following an examination in 2014, his optometrist stated, “In my opinion, Larry Kautz has sufficient vision to operate a commercial vehicle.” Mr. Kautz reported that he has driven straight trucks for 12 years, accumulating 10,800 miles. He holds a Class A CDL from Pennsylvania. His driving record for the last 3 years shows no crashes and no convictions for moving violations in a CMV.

Theodore J. Kenyon

Mr. Kenyon, 73, has had refractive amblyopia in his right eye since childhood. The visual acuity in his right eye is 20/40, and in his left eye, 20/20. Following an examination in 2015, his optometrist stated, “He has a history of refractive amblyopia (lazy eye) in his RE since childhood. . . In my medical opinion Mr. Theodore Kenyon is qualified to drive a commercial vehicle on public roadways.” Mr. Kenyon reported that he has driven straight trucks for 55 years, accumulating 825,000 miles, and tractor-trailer combinations for 30 years, accumulating 300,000 miles. He holds a Class A CDL from Vermont. His driving record for the last 3 years shows no crashes and no convictions for moving violations in a CMV.

Howard H. Key, Jr.

Mr. Key, 54, has had a central macula scar in his right eye since 1989. The visual acuity in his right eye is counting fingers, and in his left eye, 20/20. Following an examination in 2014, his optometrist stated, “In my opinion Mr. Key has sufficient vision to perform the driving tasks required to operate a commercial vehicle.” Mr. Key reported that he has driven straight trucks for 22 years, accumulating 440,000 miles. He holds an operator's license from Arkansas. His driving record for the last 3 years shows no crashes and no convictions for moving violations in a CMV.

Bernard Khraich

Mr. Khraich, 38, has light perception in his right eye due to a traumatic incident during childhood. The visual acuity in his right eye is light perception, and in his left eye, 20/20. Following an examination in 2014, his optometrist stated, “Capable of driving a commercial vehicle, has sufficient vision.” Mr. Khraich reported that he has driven straight trucks for 10 years, accumulating 50,000 miles, tractor-trailer combinations for six years, accumulating 1,200 miles, and buses for five years, accumulating 500 miles. He holds an operator's license from California. His driving record for the last 3 years shows no crashes and no convictions for moving violations in a CMV.

Bradley R. King

Mr. King, 58, has complete loss of vision in his right eye due to a traumatic incident in 1979. The visual acuity in his right eye is no light perception, and in his left eye, 20/20. Following an examination in 2014, his ophthalmologist stated, “Brad has sufficient vision to perform the driving tasks that are required to continue to operate a commercial vehicle.” Mr. King reported that he has driven straight trucks for 42 years, accumulating 42,000 miles, and tractor-trailer combinations for 4 years, accumulating 28,000 miles. He holds a Class A CDL from Iowa. His driving record for the last 3 years shows no crashes and no convictions for moving violations in a CMV.

David C. Leoffler

Mr. Leoffler, 51, has had amblyopia in his left eye since childhood. The visual acuity in his right eye is 20/20, and in his left eye, 20/200. Following an examination in 2014, his optometrist stated, “His Amblyopia was not successfully treated in early childhood, resulting in permanent monocular vision impairment. It is my professional judgment that Mr. Leoffler can safely and proficiently operate a commercial vehicle.” Mr. Leoffler reported that he has driven straight trucks for 20 years, accumulating 600,000 miles, and tractor-trailer combinations for 20 years, accumulating 1.8 million miles. He holds a Class A CDL from Colorado. His driving record for the last 3 years shows no crashes and no convictions for moving violations in a CMV.

Melvin D. Moffett

Mr. Moffett, 70, has had a retinal detachment in his left eye since 1999. The visual acuity in his right eye is 20/40, and in his left eye, 20/100. Following an examination in 2015, his ophthalmologist stated, “Posterior segment examination performed previously revealed evidence of an old, treated retinal detachment present in the patient's left eye . . . It appears at this time that Mr. Moffett should be able to operate a commercial vehicle appropriately.” Mr. Moffett reported that he has driven straight trucks for 40 years, accumulating 80,000 miles. He holds an operator's license from Kentucky. His driving record for the last 3 years shows no crashes and no convictions for moving violations in a CMV.

Armando F. Pedroso

Mr. Pedroso, 34, has corneal scarring in his right eye due to a traumatic incident during childhood. The visual acuity in his right eye is 20/200, and in his left eye, 20/15. Following an examination in 2014, his optometrist stated, “It is my opinion that Mr. Armando Pedroso has sufficient vision to perform the driving tasks required to operate a commercial vehicle.” Mr. Pedroso reported that he has driven straight trucks for 8.5 years, accumulating 340,000 miles. He holds a Class B CDL from Minnesota. His driving record for the last 3 years shows no crashes and no convictions for moving violations in a CMV.

Quang M. Pham

Mr. Pham, 29, has had a large choroidal scar over macula in his left eye since birth. The visual acuity in his right eye is 20/20, and in his left eye, 20/400. Following an examination in 2014, his optometrist stated, “With both eyes open patient has sufficient vision to perform driving tasks required to operate a commercial vehicle.” Mr. Pham reported that he has driven tractor-trailer combinations for 2 years, accumulating 52,000 miles. He holds a Class A CDL from Texas. His driving record for the last 3 years shows no crashes and no convictions for moving violations in a CMV.

William A. Ramirez Vazquez

Mr. Ramirez Vazquez, 37, has had chorioretinal scar in his left eye since 2001. The visual acuity in his right eye is 20/20, and in his left eye, 20/400. Following an examination in 2014, his optometrist stated, “In my medical opinion, William has sufficient vision to perform the driving tasks required to operate a commercial vehicle.” Mr. Ramirez Vazquez reported that he has driven straight trucks for 15 years, accumulating 150,000 miles, and tractor-trailer combinations for 4 years, accumulating 400,000 miles. He holds an operator's license from California. His driving record for the last 3 years shows no crashes and no convictions for moving violations in a CMV.

Donald W. Randall

Mr. Randall, 55, has complete loss of vision in his left eye due to a traumatic incident during childhood. The visual acuity in his right eye is 20/20, and in his left eye, no light perception. Following an examination in 2014, his optometrist stated, “He presented with a desire to get a CDL. There is no visual hindrance in the right eye that would inhibit his driving.” Mr. Randall reported that he has driven straight trucks for 20 years, accumulating 20,000 miles, and tractor-trailer combinations for 20 years, accumulating 20,000 miles. He holds a Class A CDL from Utah. His driving record for the last 3 years shows no crashes and no convictions for moving violations in a CMV.

Glen E. Robbins

Mr. Robbins, 71, has had a central macular scar in his right eye since 1963. The visual acuity in his right eye is no light perception, and in his left eye, 20/20. Following an examination in 2014, his ophthalmologist stated, “Based on the visual field extent demonstrated on the formal visual field, I feel he has sufficient vision to perform driving tasks in regards to operating a commercial vehicle.” Mr. Robbins reported that he has driven straight trucks for 3.5 years, accumulating 223,562 miles, and tractor-trailer combinations for 48 years, accumulating 4.8 million miles. He holds a Class A CDL from Wyoming. His driving record for the last 3 years shows no crashes and no convictions for moving violations in a CMV.

Enrique F. Rodriguez Gonzalez

Mr. Rodriguez Gonzalez, 45, has had glaucoma in his left eye since childhood. The visual acuity in his right eye is 20/20, and in his left eye, 20/50. Following an examination in 2014, his optometrist stated, “This patient has sufficient clarity and visual field to operate a commercial motor vehicle safely.” Mr. Rodriguez Gonzalez reported that he has driven straight trucks for 10.5 years, accumulating 273,000 miles. He holds an operator's license from North Carolina. His driving record for the last 3 years shows no crashes and no convictions for moving violations in a CMV.

Ronald P. Schoborg

Mr. Schoborg, 76, has had amblyopia in his right eye since childhood. The visual acuity in his right eye is 20/60, and in his left eye, 20/20. Following an examination in 2015, his ophthalmologist stated, “I believe Mr. Schoborg has sufficient vision to perform the tasks necessary to drive a commercial vehicle.” Mr. Schoborg reported that he has driven buses for 12 years, accumulating 396,000 miles. He holds a Class A CDL from Arkansas. His driving record for the last 3 years shows no crashes and no convictions for moving violations in a CMV.

Raymond Sherrill

Mr. Sherrill, 40, has complete loss of vision in his left eye due to a traumatic incident in 2013. The visual acuity in his right eye is 20/20, and in his left eye, no light perception. Following an examination in 2015, his optometrist stated, “My opinion no visual problems to prohibit from commercial vehicle operation.” Mr. Sherrill reported that he has driven straight trucks for 21 years, accumulating 63,000 miles. He holds a Class BM CDL from Pennsylvania. His driving record for the last 3 years shows no crashes and no convictions for moving violations in a CMV.

Roger D. Simpson

Mr. Simpson, 68, has had ischemic optic neuropathy in his right eye since 2009. The visual acuity in his right eye is 20/200, and in his left eye, 20/25. Following an examination in 2014, his optometrist stated, “I explained to Mr. Simpson that his visual function appears stable and it is my medical opinion that he is able to continue to have sufficient vision to drive as a commercial driver adequately.” Mr. Simpson reported that he has driven straight trucks for six months, accumulating 500 miles, and tractor-trailer combinations for 20 years, accumulating three million miles. He holds an operator's license from Arkansas. His driving record for the last 3 years shows no crashes and no convictions for moving violations in a CMV.

Mehrzad Tavanaie

Mr. Tavanaie, 49, has had amblyopia in his left eye since birth. The visual acuity in his right eye is 20/20, and in his left eye, 20/100. Following an examination in 2014, his optometrist stated, “Amblyopic left eye has existed since birth. Patient is competent & comfortable in driving professionally for many year. Patient has been driving commercially [sic] for 19 yrs [sic] without incident.” Mr. Tavanaie reported that he has driven tractor-trailer combinations for 19 years, accumulating 100,000 miles. He holds a Class A CDL from California. His driving record for the last 3 years shows no crashes and no convictions for moving violations in a CMV.

Steven M. Tewhill

Mr. Tewhill, 49, has had ocular histoplasmosis in his left eye since 2007. The visual acuity in his right eye is 20/20, and in his left eye, 20/150. Following an examination in 2014, his optometrist stated, “After thorough examination, it is my professional opinion that Mr. Tewhill has sufficient vision to perform his driving tasks to operate a commercial vehicle.” Mr. Tewhill reported that he has driven straight trucks for 32 years, accumulating 16,000 miles, and tractor-trailer combinations for 10 years, accumulating 10,200 miles. He holds a Class A CDL from Arkansas. His driving record for the last 3 years shows no crashes and no convictions for moving violations in a CMV.

Brett E. Thomas

Mr. Thomas, 46, has had amblyopia in his left eye since birth. The visual acuity in his right eye is 20/20, and in his left eye, 20/50. Following an examination in 2014, his optometrist stated, “His vision is great, and he is able to sufficiently able to operate a commercial vehicle safely!” Mr. Thomas reported that he has driven straight trucks for 8.5 years, accumulating 85,000 miles, and tractor-trailer combinations for 8.5 years, accumulating 170,000 miles. He holds a Class A CDL from Texas. His driving record for the last 3 years shows no crashes and no convictions for moving violations in a CMV.

Keith E. Thompson

Mr. Thompson, 40, has a severed optic nerve in his left eye due to a traumatic incident in 1994. The visual acuity in his right eye is 20/20, and in his left eye, no light perception. Following an examination in 2014, his optometrist stated, “Mr. Thompson has fully adapted to his monocular condition using visual cues to fill in for binocular situations (i.e. size, occlusion etc.). In my professional opinion, he is capable in handling any commercial truck while driving.” Mr. Thompson reported that he has driven straight trucks for 21 years, accumulating 630,000 miles. He holds a Class A CDL from Missouri. His driving record for the last 3 years shows no crashes and no convictions for moving violations in a CMV.

Jeffrey W. Tucker

Mr. Tucker, 47, has had amblyopia in his left eye since childhood. The visual acuity in his right eye is 20/20, and in his left eye, 20/100. Following an examination in 2014, his optometrist stated, “In my opinion, Mr. Tucker has sufficient vision to perform all driving tasks required to operate a commercial vehicle.” Mr. Tucker reported that he has driven straight trucks for 5 years, accumulating 130,000 miles. He holds a chauffeur's license from Indiana. His driving record for the last 3 years shows no crashes and no convictions for moving violations in a CMV.

Thomas W. Workman

Mr. Workman, 63, has complete loss of vision in his left eye due to a traumatic incident in childhood. The visual acuity in his right eye is 20/20, and in his left eye, no light perception. Following an examination in 2014, his optometrist stated, “In my medical opinion, Thomas has sufficient vision to perform the driving tasks required to operate a commercial vehicle.” Mr. Workman reported that he has driven straight trucks for 45 years, accumulating 1.8 million miles. He holds a Class B CDL from Illinois. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0304 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0304 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued On: April 17, 2015.
Larry W. Minor,
Associate Administrator for Policy.

[FR Doc. 2015-09460 Filed 4-22-15; 8:45 am]

BILLING CODE 4910-EX-P